DEPARTMENT OF COMMERCE

National Oceanic and Atmospheric Administration

[RTID 0648-XA454]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Executive Committee will hold a public webinar meeting to develop recommendations regarding the Executive Order on Promoting American Seafood Competitiveness and Economic Growth.

DATES: The meeting will be held on Monday, September 21, 2020, beginning at 1:00 p.m. and concluding by 4:00 p.m. For agenda details, see SUPPLEMENTARY INFORMATION.

ADDRESSES: The meeting will be held via webinar. Webinar connection details will be available at https://www.mafmc.org/council-events/2020/executive-committee-sept21.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: On May 7, 2020, the President of the United States signed an Executive Order on Promoting American Seafood Competitiveness and Economic Growth. The purpose of this Executive Order is “to strengthen the American economy; improve the competitiveness of American industry; ensure food security; provide environmentally safe and sustainable seafood; support American workers; ensure coordinated, predictable, and transparent Federal actions; and remove unnecessary regulatory burdens.” Section 4 of the Executive Order requires each Regional Fishery Management Council to submit a prioritized list of recommended actions to reduce burdens on domestic fishing and to increase production within sustainable fisheries, including a proposal for initiating each recommended action by May 7, 2021. During this meeting, the Executive Committee will (1) review public input and staff recommendations, (2) identify issues and actions that should be included on the Council's list of recommendations, and (3) provide direction on specific pathways for initiating action on each recommendation. The Council will review the Committee's recommendations at the October 2020 Council Meeting.

Meeting materials will be posted to https://www.mafmc.org/council-events/2020/executive-committee-sept21.

Special Accommodations

The meeting is physically accessible to people with disabilities. Requests for sign language interpretation or other auxiliary aids should be directed to M. Jan Saunders at the Mid-Atlantic Council Office, (302) 526-5251, at least 5 days prior to the meeting date.

Authority: 16 U.S.C. 1801 et seq.

Dated: September 1, 2020.
Tracey L. Thompson,
Acting Deputy Director, Office of Sustainable Fisheries, National Marine Fisheries Service.

[FR Doc. 2020-19633 Filed 9-3-20; 8:45 am]

BILLING CODE 3510-22-P